DEPARTMENT OF COMMERCE

National Oceanic and Atmospheric Administration

RIN 0648-XG004

South Atlantic Fishery Management Council; Public Meetings

AGENCY: National Marine Fisheries Service (NMFS), National Oceanic and Atmospheric Administration (NOAA), Commerce.

ACTION: Notice of meetings of the South Atlantic Fishery Management Council.

SUMMARY: The South Atlantic Fishery Management Council (Council) will hold meetings of the: Personnel Committee (Closed Session); Advisory Panel Selection Committee (Close Session); Citizen Science Committee; Spiny Lobster Committee; Joint Habitat Protection and Ecosystem-Based Management/Shrimp/and Golden Crab Committees; Snapper Grouper Committee; Southeast Data, Assessment and Review (SEDAR) Committee; Mackerel Cobia Committee; Standard Operating, Policy and Procedure (SOPPs) Committee, and the Executive Finance Committee. The Council will meet as a Committee of the Whole to address the Acceptable Biological Catch (ABC) Control Rule and have a meeting of the full Council. The Council will also hold an informal Question and Answer Session, a formal public comment session, and take action as necessary.

DATES: The Council meeting will be held from 8 a.m. on Monday, March 5, 2018 until 1 p.m. on Friday, March 9, 2018.

ADDRESSES:

Meeting address: The meeting will be held at the Westin Jekyll Island, 110 Ocean Way, Jekyll Island, GA 31527; phone: (912) 635-4545; fax: (912) 319-2835.

Council address: South Atlantic Fishery Management Council, 4055 Faber lace Drive, Suite 201, N Charleston, SC 29405.

FOR FURTHER INFORMATION CONTACT: Kim Iverson, Public Information Officer, SAFMC; phone: (843) 571-4366 or toll free (866) SAFMC-10; fax: (843) 769-4520; email: kim.iverson@safmc.net. Meeting information is available from the Council's website at: http://safmc.net/meetings/council-meetings/.

SUPPLEMENTARY INFORMATION:

Public comment: Written comments may be directed to Gregg Waugh, Executive Director, South Atlantic Fishery Management Council (see Council address) or electronically via the Council's website at http://safmc.net/safmc-meetings/council-meetings/. The public comment form is open for use when the briefing book is posted to the website on the Friday, two weeks prior to the Council meeting (2/16/18). Comments received by close of business the Monday before the meeting (2/26/18) will be compiled, posted to the website as part of the meeting materials, and included in the administrative record; please use the Council's online form available from the website. For written comments received after the Monday before the meeting (after 2/26/18), individuals submitting a comment must use the Council's online form available from the website. Comments will automatically be posted to the website and available for Council consideration. Comments received prior to noon on Thursday, March 8, 2018 will be a part of the meeting administrative record.

The items of discussion in the individual meeting agendas are as follows:

Personnel Committee (Closed Session), Monday, March 5, 2018, 8 a.m. Until 9 a.m.

1. The Personnel Committee will meet in Closed Session to discuss personnel issues and provide recommendations for Council consideration.

Advisory Panel Selection Committee (Closed Session), Monday, March 5, 2018, 9 a.m. Until 10:30 a.m.

1. The Committee will receive a review of the composition of the System Management Plan Workgroup, review applications and make recommendations as appropriate.

2. The Committee will receive an overview of open advisory panel seats, review applications/reapplications and provide recommendations as appropriate.

Citizen Science Committee, Monday, March 5, 2018, 10:30 a.m. Until 12:30 p.m.

1. The Committee will review formal recommendations from the Citizen Science Action Teams, discuss, and adopt as appropriate.

Spiny Lobster Committee, Monday, March 5, 2018, 1:30 p.m. Until 2:30 p.m.

1. The Committee will receive an update on the status of catches versus annual catch limit (ACLs) and the status of amendments under formal review.

2. The Committee will review public scoping comments on options for Spiny Lobster Amendment 13 addressing bullynets and measures recommended by the Florid Fish and Wildlife Conservation Commission (FWC). The Committee will approve actions and alternatives to be analysed and provide guidance to staff.

Joint Habitat Protection and Ecosystem-Based Management, Shrimp and Golden Crab Committees Meeting, Monday, March 5, 2018, 2:30 p.m. Until 5:30 p.m.

1. The Committees will receive an overview of the Fishery Ecosystem Plan II and Implementation plan, review and approve.

2. The Committees will receive an update on habitat and ecosystem tools and model development, review and approve actions on habitat as appropriate.

3. The Committees will receive an overview on Allowable Fishing Areas, discuss and provide guidance to staff as needed.

Snapper Grouper Committee, Tuesday, March 6, 2018, 8:30 a.m. Until 4:30 p.m., and Wednesday, March 7, 2018, 8:30 a.m. Until 4:30 p.m.

1. The Committee will receive updates from NOAA Fisheries on commercial catches versus quotas for species under ACLs and the status of amendments under formal Secretarial review.

2. The Committee will receive an overview of draft Amendment 46 addressing measures for recreational reporting and best fishing practices and provide guidance to staff.

3. The Committee will receive an overview of the Vision Blueprint Regulatory Amendment 26 addressing recreational management actions and alternatives as identified in the 2016-2020 Vision Blueprint for the Snapper Grouper Fishery Management Plan. The Committee will modify the document as necessary and approve for public hearings.

4. The Committee will receive an overview on improving recreational estimates, discuss and provide direction to staff. The Committee will also receive a presentation on findings from the final report: Socio-economic Profile of the South Atlantic Snapper Grouper Commercial Fishery, review and provide comment.

5. The Committee will receive an overview of Vision Blueprint Regulatory Amendment 27 addressing commercial management actions and alternatives, as identified in the 2016-20 Vision Blueprint for the Snapper Grouper Fishery. The Committee will modify the document as necessary, and approve for public hearings.

6. The Committee will receive an overview of options for a Snapper Grouper For-Hire Moratorium, discuss, and provide guidance to staff.

7. The Committee will receive an overview of a rebuilding plan for red grouper, review, and provide guidance to staff.

8. The Committee will receive an overview of draft Snapper Grouper Regulatory Amendment 28 addressing golden tilefish management, provide guidance to staff, and approve for public hearings.

9. The Committee will receive an update on the Wreckfish Individual Transferable Quota (ITQ) Review and provide guidance to staff.

10. The Committee will discuss potential management options for yellowtail snapper (e.g., commercial trip limits and coordinating with the Gulf of Mexico Fishery Management Council), and provide guidance to staff.

11. The Committee will receive an overview of guidance established in the Council's Vision Blueprint for the Snapper Grouper Fishery and the System Management Plan for managed areas, discuss and provide guidance to staff. The Committee will also receive an overview of sea turtle and other protected resources release gear and provide guidance to staff.

Informal Question and Answer Session, Tuesday, March 6, 2018, 4:30 p.m.

Formal Public Comment, Wednesday, March 7, 2018, 4:30 p.m.—Public comment will be accepted on items on the Council agenda including Coastal Migratory Pelagics Amendment 31 (Atlantic Cobia) that the Council is considering for final approval. The Council is also accepting public comment on Executive Order 13771 (2 for 1 regulations) to identify regulations that are (1) outdated, (2) unnecessary, or (3) ineffective. The Council Chair, based on the number of individuals wishing to comment, will determine the amount of time provided to each commenter.

SEDAR Committee, Thursday, March 8, 2018, 8 a.m. Until 9 a.m.

1. The Committee will receive an update on stock assessment projects, receive an overview of the Council's SEDAR Committee function and purpose and discuss, and discuss the SEDAR Steering Committee's upcoming meeting and provide guidance to staff as appropriate.

ABC Control Rule—Council Meeting of the Whole, Thursday, March 8, 2018, 9 a.m. Until 12 p.m.

1. The Committee of the Whole will receive an overview of the ABC Control Rule Amendment, discuss and provide guidance to staff.

2. The Committee of the Whole will receive an overview of Accountability Measures, discuss, and provide guidance to staff.

Mackerel Cobia Committee, Thursday, March 8, 2018, 1 p.m. Until 3 p.m.

1. The Committee will receive an update on commercial catches versus ACLs and an update from state representatives on king mackerel tournament sales versus commercial ACLs.

2. The Committee will receive an update on state actions for the Interstate Atlantic Cobia Management Plan from the Atlantic States Marine Fisheries Commission (ASMFC).

3. The Committee will receive a summary of public comments for Coastal Migratory Pelagics Amendment 31 addressing proposed management measures for Atlantic cobia, review the decision document, and consider approving the amendment for formal Secretarial review.

4. The Committee will receive an overview of Coastal Migratory Pelagics Framework Amendment 6 addressing Atlantic king mackerel trip limits, discuss, and provide guidance to staff.

SOPPs Committee, Thursday, March 8, 2018, 3 p.m. Until 4 p.m.

1. The Committee will receive an overview of changes proposed to the SOPPs and Council Handbook, discuss, and provide direction to staff as appropriate.

Executive/Finance Committee, Thursday, March 8, 2018, 4 p.m. Until 5:30 p.m.

1. The Committee will receive an overview of the current Magnuson-Stevens Reauthorization efforts, discuss, and provide guidance to staff.

2. The Committee will receive an overview of the draft Calendar Year 2018 budget, discuss, and provide guidance to staff.

3. The Committee will receive an overview of regulatory reform efforts, Atlantic Coast-Wide Group discussion, and Council Training/Webinars, discuss, and provide guidance to staff.

Council Session: Friday, March 9, 2018, 8 a.m. Until 1 p.m. (Partially Closed Session if Needed)

The Full Council will begin with the Call to Order, adoption of the agenda, approval of minutes, announcements and introductions, and presentations.

The Council will receive a Legal Briefing on Litigation from NOAA General Counsel (if needed) during Closed Session. The Council will receive staff reports including the Executive Director's Report, a report on the Economic Impact of Fisheries for Council Managed Species, and an update on the Electronic Reporting Outreach Project. Updates will be provided by NOAA Fisheries including a presentation on the Southeast For-Hire Integrated Electronic Reporting, status of the For-Hire Amendment, a report on the status of commercial catches versus ACLs for species not covered during an earlier committee meeting, a protected resources update, and discuss other issues as necessary. The Council will also receive a presentation on the Marine Recreational Information Program (MRIP) Effort Survey Transition and Estimates Calibration and a presentation on the Status of Electronic Commercial Logbook Voluntary Reporting.

The Council will review any Exempted Fishing Permits received by NOAA Fisheries as necessary. The Council will receive Committee reports from the Snapper Grouper, Mackerel Cobia, Spiny Lobster, AP Selection, SEDAR, ABC Control Rule Committee of the Whole, Citizen Science, Joint Habitat and Ecosystem-Based Management/Shrimp/Golden Crab, SOPPs, and Executive Finance Committees, and take action as appropriate.

The Council will receive agency and liaison reports; and discuss other business and upcoming meetings.

Documents regarding these issues are available from the Council office (see ADDRESSES).

Although non-emergency issues not contained in this agenda may come before these groups for discussion, those issues may not be the subject of formal action during these meetings. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for auxiliary aids should be directed to the Council office (see ADDRESSES) 5 days prior to the meeting.

Note: The times and sequence specified in this agenda are subject to change.

Authority: 16 U.S.C. 1801 et seq.

Dated: February 7, 2018.
Tracey L. Thompson,
Acting Deputy Director, Office of Sustainable Fisheries, National Marine Fisheries Service.

[FR Doc. 2018-02734 Filed 2-9-18; 8:45 am]

BILLING CODE 3510-22-P